DEPARTMENT OF TRANSPORTATION

Federal Aviation Administration

14 CFR Part 39

[Docket No. FAA-2004-19563; Directorate Identifier 2003-NM-10-AD]

RIN 2120-AA64

Airworthiness Directives; Bombardier Model CL-600-2B16 (CL-604) Series Airplanes

AGENCY: Federal Aviation Administration (FAA), Department of Transportation (DOT).

ACTION: Proposed rule; withdrawal.

SUMMARY: The FAA withdraws a notice of proposed rulemaking (NPRM) that proposed a new airworthiness directive (AD) for certain Bombardier Model CL-600-2B16 (CL-604) series airplanes. The proposed AD would have required replacing the side-brace fitting shafts of the main landing gear (MLG) with new, improved side-brace fitting shafts; inspecting for corrosion of the MLG side-brace fitting shafts; and replacing the nut, washer, and cotter pin of the MLG side-brace fitting shafts with new parts; as applicable. Since the proposed AD was issued, we have received new data that the actions that would have been required by the proposed AD have already been accomplished on all of the affected airplanes. Accordingly, the proposed AD is withdrawn.

ADDRESSES: You can examine the contents of this AD docket on the Internet at http://dms.dot.gov, or in person at the Docket Management Facility, U.S. Department of Transportation, 400 Seventh Street, SW., room PL-401, on the plaza level of the Nassif Building, Washington, DC. This docket number is FAA-2004-19563; the directorate identifier for this docket is 2003-NM-10-AD.

FOR FURTHER INFORMATION CONTACT: Serge Napoleon, Aerospace Engineer, Airframe and Propulsion Branch, ANE-171, FAA, New York Aircraft Certification Office, 1600 Stewart Avenue, suite 410, Westbury, New York 11590; telephone (516) 228-7312; fax (516) 794-5531.

SUPPLEMENTARY INFORMATION:

Discussion

We proposed to amend part 39 of the Federal Aviation Regulations (14 CFR part 39) with a notice of proposed rulemaking (NPRM) for a new AD for certain Bombardier Model CL-600-2B16 (CL-604) series airplanes. That NPRM was published in the Federal Register on November 9, 2004 (69 FR 64869). The NPRM would have required replacing the side-brace fitting shafts of the main landing gear (MLG) with new, improved side-brace fitting shafts; inspecting for corrosion of the MLG side-brace fitting shafts; and replacing the nut, washer, and cotter pin of the MLG side-brace fitting shafts with new parts; as applicable. The NPRM was prompted by the discovery of fractures of the MLG side-brace fitting shafts caused by corrosion on the forward side of the side-brace fitting shafts. The proposed actions were intended to prevent fracture of the MLG side-brace fitting shafts, which could result in collapse of the MLG.

Actions Since NPRM Was Issued

Since we issued the NPRM, the airplane manufacturer has informed us that all airplanes identified in the applicability section of the NPRM have already accomplished the actions specified in Bombardier Alert Service Bulletin A604-32-018, Revision 01, dated February 22, 2002, which would have been required by the proposed AD. Transport Canada Civil Aviation (TCCA), which is the airworthiness authority for Canada, has also confirmed that the proposed requirements have already been accomplished on all affected airplanes.

FAA's Conclusions

Upon further consideration, we have determined that it is unnecessary to issue the proposed AD. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2004-19563, Directorate Identifier 2003-NM-10-AD, which was published in the Federal Register on November 9, 2004 (69 FR 64869).

Issued in Renton, Washington, on March 31, 2005.
Kalene C. Yanamura,
Acting Manager, Transport Airplane Directorate, Aircraft Certification Service.

[FR Doc. 05-6916 Filed 4-6-05; 8:45 am]

BILLING CODE 4910-13-P